COMMODITY FUTURES TRADING COMMISSION

Chicago Board of Trade (CBT) Proposed New Mini-Sized Corn, Soybean, and Wheat Futures Contracts

AGENCY: Commodity Futures Trading Commission.

ACTION: Notice of availability of terms and conditions of new contract specifications for mini-sized corn, soybean, and wheat futures.

SUMMARY: The Chicago Board of Trade (CBT or Exchange) has requested that the Commission approve the subject proposed new mini-sized corn, soybean, and wheat futures contracts, new CBT Regulation 332.11, and related amendments to existing CBT Regulations 425.01 and 1008.01. The proposals were submitted pursuant to Commission Regulations 40.3 and 40.5.

The Director of the Division of Market Oversight (Division) of the Commission, acting pursuant to the authority delegated by Commission Regulation 140.96, has determined that publication of the Exchange's proposal for comment is in the public interest, and will assist the Commission in considering the views of interested persons.

DATES: Comments must be received on or before March 24, 3003.

ADDRESSES: Interested persons should submit their views and comments to Jean A. Webb, Secretary, Commodity Futures Trading Commission, Three Lafayette Centre, 1155 21st Street, NW., Washington 20581. In addition, comments may be sent by facsimile transmission to (202) 418-5521 or by electronic mail to secretary@cftc.gov. Reference should be made to “CBT mini-sized, corn, soybean and wheat futures contracts.”

FOR FURTHER INFORMATION CONTACT: Please contact Frederick Linse of the Division of Market Oversight, Commodity Futures Trading Commission, Three Lafayette Centre, 1155 21st Street, NW., Washington 20581, (202) 418-5273. Facsimile number: (202) 418-5527. Electronic mail: flinse@cftc.gov.

SUPPLEMENTARY INFORMATION: The proposed futures contracts would provide for the delivery of warehouse depository receipts and certificates representing 1,000 bushels of corn, soybeans and wheat, respectively. Except for certain terms noted below, the terms and conditions of the subject contracts would be identical to the terms and conditions of the existing 1,000-bushel corn, soybeans and wheat futures contracts traded on the MidAmerica Commodity Exchange (MACE). In this respect, prior to the first trading day of the subject new contracts, all of the open interest on the MACE corn, soybean and wheat futures contracts would be transferred to the corresponding new CBT mini-sized contracts. Trading of the MACE corn, soybean and wheat contracts on MACE would cease after the open interest in these contracts has been transferred to the CBT.

The primary differences between the CBT mini-sized and MACE contracts relate to the contracts' speculative position limits and certain terms concerning the taking of physical delivery against outstanding warehouse depository receipt and shipping certificates. Under proposed amendments to the CBT's Regulation 425.01, a trader's combined position in the mini-sized contracts and the corresponding CBT corn, soybean and wheat futures contracts would be subject to the CBT's existing speculative position limits for these commodities. For purposes of combining positions, one mini-sized contract would be treated as equivalent to one-fifth of one CBT 5,000-bushel contract. Currently, traders' positions in MACE and CBT corn, soybean and wheat futures contracts are subject to speculative position limits that are specified separately for each exchange. The proposed rules also would specify that holders of outstanding 1,000-bushel warehouse depository receipts and certificates must present such receipts and certificates to issuers in multiples of 5 receipts or certificates in order to receive load-out of the underlying corn, soybeans or wheat.¹

¹ The CBT indicated that the above proposed rules codify existing MACE practices.

Trading of the new mini-sized contracts would be by open outcry. In this regard, the CBT is proposing to adopt new regulation 332.11 which specifies the CBT's requirements in relation to changers and changing transactions.

The CBT stated that it intends to commence trading of the new mini-sized corn, soybean and wheat futures contracts in the second calendar quarter of 2003.

The Division is requesting comment on the proposals. Copies of the Exchange's proposal will be available for inspection at the Office of the Secretariat, Three Lafayette Centre, 1155 21st Street, NW., Washington 20581. Copies of the proposal can also be obtained through the Office of the Secretariat by mail at the above address or by phone at (202) 418-5100.

Other materials submitted by the CBT in support of the request for approval may be available upon request pursuant to the Freedom of Information Act (5 U.S.C. 552) and the Commission's regulations thereunder (17 CFR part 145 (2002)), except to the extent they are entitled to confidential treatment as set forth in 17 CFR 145.5 and 145.9. Requests for copies of such materials should be made to the FOI, Privacy and Sunshine Act Compliance Staff of the Office of the Secretariat at the Commission's headquarters in accordance with 17 CFR 145.7 and 145.8.

Any person interested in submitting written data, views, or arguments pertaining to the proposal or with respect to other materials submitted by the CBT should send such comments to Jean A. Webb, Secretary, Commodity Futures Trading Commission, Three Lafayette Centre, 1155 21st Street, NW., Washington 20581 by the specified date.

Issued in Washington, DC on March 3, 2003.
Michael Gorham,
Director.

[FR Doc. 03-5358 Filed 3-6-03; 8:45 am]

BILLING CODE 6351-01-M